DEPARTMENT OF HEALTH AND HUMAN SERVICES

National Institutes of Health

Supplementary Risk Assessments and Site Suitability Analyses for the National Emerging Infectious Disease Laboratory, Boston University Medical Center

ACTION: Availability of Supplementary Risk Assessments and Site Suitability Analyses for the National Emerging Infectious Disease Laboratory, Boston University Medical Center; notice of hearing.

SUMMARY: The National Institutes of Health (NIH) has placed in the docket for public review and comment the Supplementary Risk Assessments and Site Suitability Analyses for the National Emerging Infectious Disease Laboratory, Boston University Medical Center, which address additional concerns of the local community regarding possible impacts of the National Emerging Infectious Diseases Laboratory, Boston University Medical Center. The purpose of the Supplementary Risk Assessments and Site Suitability Analyses for the National Emerging Infectious Disease Laboratory was alternative site analysis and risk assessment that investigated potential infectious disease threats that may be posed to the public should an exotic infectious agent be released into the community through an infected laboratory worker, laboratory accident, or other mishap.

DATES: Comments on the Supplementary Risk Assessments and Site Suitability Analyses for the National Emerging Infectious Disease Laboratory must be received by Monday, November 12th. A public hearing will be held on Thursday, September 20, 2007, from 7-9 p.m. at Faneuil Hall, Dock Square, Boston, MA 02109.

ADDRESSES: Comments should be sent to Valerie Nottingham, Division of Environmental Protection, National Institutes of Health, 9000 Rockville Pike, Building 13, Room 2S11, Bethesda, MD 20892, MSC 5746. E-mail comments should be sent to nihnepa@mail.nih.gov. Comments sent by e-mail must be received by 11:59 p.m. on the last day of the comment period, Monday, November 12, 2007.

FOR FURTHER INFORMATION CONTACT: Valerie Nottingham, Division of Environmental Protection, National Institutes of Health, 9000 Rockville Pike, Building 13, Room 2S11, Bethesda, MD 20892, MSC 5746, telephone number 301-496-7775, E-mail address: nihnepa@mail.nih.gov.

SUPPLEMENTARY INFORMATION: The National Institutes of Health awarded a construction grant to Boston University to partly fund the design and construction of one of two National Biocontainment Laboratories (NBLs). These advanced biomedical research laboratories are essential to the civilian biodefense initiative providing critically needed Biosafety Levels 2, 3, and 4 research space. The basic and translational research to be conducted in these laboratories over the next 20 years will result in development of new rapid diagnostic assays, vaccines and therapeutics for protection of the American public against intentional misuse or release of harmful biological agents or toxins and emerging and re-emerging infectious diseases such as H5N1 highly pathogenic avian influenza and the SARS coronavirus.

The NIH completed and published a final Environmental Impact Statement (EIS) and published a Record of Decision as required for major federal actions under the National Environmental Policy Act (NEPA). Construction of the National Emerging Infectious Diseases Laboratory (NEIDL) began at the BioSquare II Research Park on Albany Street, Boston, Massachusetts adjacent to the Boston University Medical Center (BUMC).

During the preparation of the EIS, the NIH conducted a thorough review of the possible impacts of the NBL on the public and the environment. That review demonstrated that the construction and operation of the NBL was not a risk to the community in which the laboratory was sited or surrounding communities. In response to additional and lingering concerns raised by some members of the community, the NIH has performed additional reviews of the potential impacts of the NBL. These reviews included additional “hard look” alternative site analyses and risk assessments investigating potential infectious disease threats that may be posed to the public should an exotic infectious agent be released into the community through an infected laboratory worker, laboratory accident or other mishap. Additionally, the risk assessments specifically addressed an on-going community concern that an Environmental Justice community near the proposed NEIDL site in Boston would be disproportionately impacted should a release occur.

Availability of Copies and Electronic Access

Copies of the Supplementary Risk Assessments and Site Suitability Analyses for the National Emerging Infectious Disease Laboratory, Boston University Medical Center may be obtained at no cost by calling 301-496-7775, or by emailing requests to nihnepa@mail.nih.gov. Documents are available in alternate formats upon request. Persons who want a publication in an alternate format should specify the type of format. The document will also be available on the NIH Web site http://www.nems.nih.gov/aspects/nat_resources/programs/nepa.cfm.

Dated: August 15, 2007.
Daniel G. Wheeland,
Director, Office of Research Facilities Development and Operations, NIH.

[FR Doc. E7-16645 Filed 8-22-07; 8:45 am]

BILLING CODE 4140-01-P